DEPARTMENT OF HOMELAND SECURITY

U.S. Customs and Border Protection

Notice of Reinstatement of Customs Broker Licenses; Correction

AGENCY: U.S. Customs and Border Protection, Department of Homeland Security.

ACTION: Notice; correction.

SUMMARY: CBP published a notice in the Federal Register on August 8, 2013, erroneously announcing that it had reinstated the broker licenses of certain brokers. Notice is hereby given that the broker licenses named in the previous document and identified in this document were never reinstated and remain revoked.

SUPPLEMENTARY INFORMATION: In a notice published in the Federal Register (78 FR 48458) on August 8, 2013, CBP announced that it had reinstated certain broker licenses that were erroneously revoked in a December 6, 2012 Federal Register (77 FR 72873) notice. This correction notice is being issued to note that certain brokers were erroneously included in the list of brokers whose licenses were reinstated. Those licenses were never reinstated and remain revoked. Those brokers were never personally notified that their licenses were reinstated and have not been permitted to practice despite the erroneous publication.

Correction

In the Federal Register (78 FR 48458) notice of August 8, 2013, on page 48459, correct the list to exclude the following names, license numbers, and port of issuance:

Last name | First name | License # | Port of issuance
Ahn | Byung M. | 22354 | New York.
Arbolante | Armand | 16369 | New York.
Banghart | Warren G. | 16374 | New York.
Cambell & Gardiner, Inc. |  | 02342 | New York.
Crapanzano | Dominick J. | 10029 | New York.
Elisberg | Norman Gene | 02929 | New York.
EWA Customs Service, Inc. |  | 23694 | New York.
Fei | Donald L. | 10362 | New York.
Fellouris | George | 04757 | New York.
Ferrara International Logistics, Inc |  | 20280 | New York.
Fietz | William L. | 05163 | New York.
Forte | Peter F. | 14575 | New York.
Gambardella | Michael J. | 02913 | New York.
Gregoriou | Larry | 10461 | New York.
Haft | Shlomo Yisrael | 22296 | New York.
Hassinger | Herbert A. | 07057 | New York.
HAV International Freight |  | 12843 | New York.
Irizarry | Dawn M. | 15160 | New York.
Keenan | Gloria J. | 12322 | New York.
Keough | James | 06910 | New York.
Kittler | James A. | 09946 | New York.
Konstantinovsky | Boris | 20792 | New York.
Launer | Ralph W. | 05747 | New York.
Lehat | Irving | 02579 | New York.
Levine | Seth A. | 09759 | New York.
Ma | Guo Zhan | 28050 | New York.
Mosher | Fredric W. | 17134 | New York.
Ovair Freight Service, Inc. |  | 05773 | New York.
Palmieri | Eugene D. | 02632 | New York.
Rea | Robert | 03980 | New York.
Reid | Derick | 15453 | New York.
Ronan | William G. | 23177 | New York.
Rowan | Susan M. | 09932 | New York.
Stettner | Robert | 05894 | New York.
Valdes | Dorianne | 17091 | New York.
Walsh | John X. | 03979 | New York.
Wang | Chia S. | 15452 | New York.
Weinstock | Richard | 05119 | New York.

Dated: October 23, 2013.
Richard F. Dinucci,
Acting Assistant Commissioner, Office of International Trade.

[FR Doc. 2013-25365 Filed 10-25-13; 8:45 am]

BILLING CODE 9111-14-P